DEPARTMENT OF HOUSING AND URBAN DEVELOPMENT

[Docket No. FR-4837-D-03]

Delegations of Authority for the Office of Housing/Federal Housing Administration Single Family Housing Programs

AGENCY: Office of the Assistant Secretary for Housing-Federal Housing Commissioner, HUD.

ACTION: Notice of revocation and redelegation of authority for single family housing programs.

SUMMARY: Published elsewhere in today's Federal Register, the Secretary of HUD issued an up-to-date comprehensive delegation of authority for housing programs to the Assistant Secretary for Housing-Federal Housing Commissioner and the General Deputy Assistant Secretary for Housing-Deputy Federal Housing Commissioner. This notice advises the public of redelegations of authority for Single Family housing programs, from the Assistant Secretary to Office of Housing staff in the Office of Single Family Housing, in Headquarters and in the Field.

EFFECTIVE DATE: August 11, 2003.

FOR FURTHER INFORMATION CONTACT: Kitty M. Woodley, Special Assistant to the Deputy Assistant Secretary for the Office of Single Family Housing, Office of Housing, Department of Housing and Urban Development, Room 9282, Washington, DC 20410, telephone (202) 708-2676, x3570. Persons with hearing or speech impairments may call HUD's TTY number at (202) 708-1455 or the Federal Information Relay Service's TTY number at (800) 877-8339. Other than the “800” number, the telephone numbers listed are not toll-free.

SUPPLEMENTARY INFORMATION: The organizational structure of the Office of Single Family Housing, Office of Housing, has undergone substantial change over recent years. A major focus of HUD's reform effort has been, and remains, on placing decision-making authority in HUD Offices at or near the geographic site of a transaction. Headquarters personnel are primarily responsible for assisting the Assistant Secretary in developing policies and procedures for Office of Housing programs. Also, Headquarters staff is responsible for carrying out consumer protection legislation. On occasion, Headquarters staff will review and make determinations concerning mortgage insurance transactions if, for example, novel issues having national implications are involved. A separate question concerns what positions, within the Office of Housing, should be delegated authority to bind the Department. While a number of HUD staff, reflecting a range of expertise, may participate in decision-making, performing such functions as gathering and assessing facts and making recommendations about the disposition of a transaction, only a relatively small number of managers, acting within the scope of their delegated authority and applicable law, have independent authority through the delegation process, to make binding decisions on behalf of HUD.

Accordingly, under this redelegation, that revokes and or supersedes all prior redelegations to Office of Single Family Housing managers, the Assistant Secretary is redelegating very broad operating authority to a clearly defined universe of Office of Housing positions in Headquarters and in the Field.

Section I. Single Family Housing Programs-Office of Housing Organization

A. Office of Single Family Housing—Headquarters: All Single Family Housing managers, in Headquarters and the Field, report to the Deputy Assistant Secretary and Associate Deputy Assistant Secretary for Single Family Housing. In Headquarters, there are three major single family housing offices, each of which are headed by a Director and are comprised of Divisions. These Offices are the following:

• The Office of Single Family Housing Program Development: This Office is comprised of two Divisions. The Home Mortgage Insurance Division is generally responsible for developing and implementing policies, procedures, and guidelines covering pre-application stage through the final endorsement stage of FHA mortgage insurance cases, including mortgage loan origination and refinancing cases.

The Program Support Division is responsible for: administering HUD's Housing Counseling program; managing FHA's nonprofit mortgagor, discount sales, and secondary financing programs; maintaining the Single Family Housing Web site; producing Single Family Housing brochures; overseeing the marketing of Single Family Housing programs; and providing a wide variety of technical assistance to the three Offices within Single Family Housing.

• The Office of Single Family Asset Management: This Office is also comprised of two Divisions. The Single Family Servicing and Loss Mitigation Division is responsible for implementing the single family loan servicing and loss mitigation program, as well as for strategic planning and guidance in relation to HUD's mortgage loan portfolio. This portfolio includes loans that are currently insured or that have been assigned to the Department. Although a Headquarters Division, its staff, including the Division director, is out-stationed to Oklahoma City and Tulsa, Oklahoma. Also, the loan servicing and loss mitigation function is carried out only by this Headquarters division, and not by any Field Office.

The Asset Management and Disposition Division develops policies and procedures for, and implements, the single family housing property disposition program.

• The Office of Lender Activities and Program Compliance: This Office consists of two Divisions. The Lender Approval and Re-certification Division assists in the development of criteria for approving FHA lenders. Applications from mortgage lenders seeking to become FHA mortgagees are filed with, reviewed, and decided within this Division. The Division is also responsible for lender re-certifications.

The second division, the Quality Assurance Division, is responsible for ensuring that FHA-approved lenders comply with requirements that govern lender practices. It monitors the performance of lenders and how well their loans perform on an ongoing basis. If necessary, the Office can work with lenders to improve their practices, or, at the other extreme, assist the Office of Housing in terminating a lender's FHA approval status.

B. Office of Single Family Housing—Field Office Structure: In order to maximize efficiencies and empower people and communities, the Office of Single Family Housing undertook a major field reorganization over the past few years. Today, the Office has four Homeownership Centers (HOC) located in Atlanta, Georgia; Denver, Colorado; Philadelphia, Pennsylvania; and Santa Ana, California. These HOCs are responsible for the processing of cases within their respective geographic jurisdictions. In addition, Office of Single Family Housing employees, engaged in program support and lender monitoring activities, are out-stationed to locations throughout the United States. Among other things, these employees work within local communities, conducting marketing and outreach responsibilities, to ensure that the public is aware of and has access to Office of Housing programs.

A uniform structure applies to all of the HOCs. The highest ranking official in the HOC is the HOC Director, who is assisted by the HOC Deputy Director. Functions performed by HOC staff are distributed, according to type (e.g., production, quality assurance, etc.), among five Divisions, each headed by a Division Director. The five HOC Divisions are titled (1) Processing and Underwriting; (2) Quality Assurance; (3) Program Support; (4) Real Estate Owned; and (5) Operations and Customer Service.

Division Directors report to the HOC Director and Deputy Director. (As is the case in Headquarters, all staff report to the Deputy Assistant Secretary and Associate Deputy Assistant Secretary for Single Family Housing.) The chart below identifies each HOC and its geographic jurisdiction.

Atlanta Homeownership Center
Atlanta | Indianapolis | Memphis | Coral Gables
Jackson | Chicago | Nashville | Louisville
Jacksonville | Orlando | Birmingham | Caribbean
Knoxville | Tampa | Columbia
Greensboro

Denver Homeownership Center
Denver | Omaha | Shreveport | Kansas City
Casper | Albuquerque | Fort Worth | Lubbock
Salt Lake City | Helena | Fargo | Dallas
Des Moines | San Antonio | Sioux Falls | Milwaukee
St. Louis | Tulsa | Little Rock | Minneapolis
Oklahoma City | New Orleans

Philadelphia Homeownership Center
Philadelphia | Cincinnati | Grand Rapids | Manchester
Albany | Camden | Boston | Charleston
New York | Buffalo | Bangor | Hartford
Providence | Burlington | Pittsburgh | Baltimore
Columbus | Washington, DC | Richmond | Wilmington
Detroit | Cleveland | Flint | Newark

Santa Ana Homeonwership Center
Santa Ana | Los Angeles | San Diego | Anchorage
Fresno | Phoenix | San Francisco | Boise
Honolulu | Reno | Tucson | Portland
Las Vegas | Sacramento | Seattle | Spokane

Section II. Single Family Programs—Functions

The Office of Single Family Housing is charged with carrying out duties of the Assistant Secretary and General Deputy Assistant Secretary for Housing as they relate to single family programs set forth in HUD's governing legislation. This broad range of programs enables HUD, in concert with program participants in the private and public sectors, to provide safe, decent, and affordable single family housing to millions of American families. Programs include the implementation of certain regulatory programs administered by the Office of Housing. They promote homeownership opportunities, provide for affordable financing, and help to educate people, who are often first-time homeowners, on how to maintain a home.

Note: Single family programs, and functions related thereto, do not include activities performed by the Office of Housing under the Federal Housing Enterprises Financial Safety and Soundness Act of 1992 (FHEFSSA), 12 U.S.C. 4501 et seq. A separate office within the Office of Housing, the Office of Government Sponsored Enterprise Regulatory Staff, assists the Assistant Secretary in carrying out the provisions of the FHEFSSA.

Under this delegation, the Assistant Secretary redelegates broad program authority to the Deputy Assistant Secretary, the Associate Deputy Assistant Secretary, and commensurate with their respective duties, Directors in Headquarters and in the Field.

Characterizing the redelegated authority in broad or generic terms will enable the Deputy Assistant Secretary, Associate Deputy Assistant Secretary, and Directors in Headquarters and the Field, to perform all functions necessary to accomplish single family program tasks and objectives.

In some past delegation notices, HUD has set forth, in “laundry list” fashion the detailed functions carried out by managers under generic function headings. Publishing detailed lists has proven problematic, as some listed items become obsolete over time, while other functions are omitted through oversight. Conversely, this delegation sets forth functions in generic terms, while the preamble provides insights into the nature of the work performed by managers with delegated authority under each category. The basic Single Family functions and a brief description of each are as follows:

A. General Authority: This authority allows managers to sign any and all documents necessary to carry out the business within their program and geographical jurisdictions. In addition, it allows managers, when considering a proposal, to waive any directives not mandated by statute or regulation for good cause and with a written justification.

B. Production: This function allows a manager with delegated authority to make all necessary determinations that relate to the insured mortgage process. Essentially, this category of functions begins with a proposal to insure a home mortgage and ends with the Department's endorsement of an insured mortgage. For all insurance programs, it includes, but is not limited to, such activities as approving direct endorsement lenders monitoring contract reviews, maintaining rosters and other lists of appraisers, inspectors, and lenders, performing underwriting reviews for mortgage credit, performing appraisal reviews, performing architectural field reviews, and setting mortgage limits.

C. Servicing and Loss Mitigation: Servicing and Loss Mitigation functions are intended to ensure the servicing of the secretary-held mortgage portfolio and partial claims and the monitoring of FHA servicers' use of loss mitigation and timely reporting of defaulted, FHA-insured loans. Additional responsibilities include: Writing off or compromising principal debt, up to a maximum of $100,000; providing on-site and off-site loss mitigation training to lenders, housing counseling agencies, and other FHA program offices within HUD; administering the Home Equity Conversion Mortgage reverse equity mortgage program; operating a nationwide call center to respond to questions concerning loss mitigation and foreclosure relief programs; and supporting the Department's endeavor against predatory lending practices.

D. Quality Assurance: Quality assurance functions are intended to ensure that an FHA lender is in compliance with FHA lending requirements and procedures. Lenders that fail to meet FHA standards are subject to sanctions. Functions include: Monitoring lender performance; reviewing default and insurance claim statistics; placing a lender on credit watch; making recommendations to the FHA Mortgagee Review Board for the imposition of sanctions; and entering into indemnification agreements; or terminating a lender's FHA status.

E. Lender Approval and Recertification: The approval of new lenders and the recertification of existing lenders are FHA's “gatekeeping” functions. Functions include the approval of Single Family and Multifamily lenders and processing the approval and recertification applications from Single Family Title I and Title II lenders, and multifamily lenders for participation in FHA programs. An additional function is the administration of the Institution Master File system, which is used to track the status of lenders and their various authorities and also “feeds” lender data to over twenty of HUD/FHA's other data systems.

F. Grants: Every year, the Office of Single Family Housing issues a Notice Of Funding Availability (NOFA) for the single family housing counseling program. This competitive funding program is part of HUD's annual SuperNOFA publication that announces funding programs developed throughout the Department. In any given year, however, Congress may authorize funds for additional grant programs. The Assistant Secretary for Housing is the Grant Officer and thus the sole official responsible for making grantee selections. Other grant functions include developing criteria for grant applications, rating and ranking proposals, and selecting government technical representatives to oversee performance under the grant contracts. Once a grant is awarded, functions include monitoring a grantee's compliance with the agreement, modifying a grant, terminating a grant for non-compliance, and closing out a grant in the usual course. The Assistant Secretary will retain and not redelegate the authority of the Grant Officer to make selections of grantees or to approve recipient noncompetitive grants.

G. Program Demonstrations: Periodically, the Congress enacts legislation authorizing HUD to conduct a program on a demonstration basis. The purpose of the demonstration is essential to test the viability of a new program or product on a limited basis, e.g., by geography, case volume, or time. Functions related to demonstration programs include developing program criteria, implementing the program, monitoring activities and results, preparing any required reports to the Congress, and closing out the demonstration program.

H. Property Disposition: Although most property disposition functions occur after HUD has acquired title to a property, there are exceptions that involve the pre-acquisition period. For example, in anticipation of acquiring title, HUD may decide to allow a family to remain in the conveyed property (i.e., an occupied conveyance). Pre-acquisition decisions will then concern approving a lease and setting a rent level. Other decisions concern a property's maintenance (or preservation) during the period of conveyance from a lender. HUD reviews claims for insurance benefits, and once these are paid, the Department obtains title to a property and assumes the responsibilities of an owner. Among other things, it maintains the property, paying taxes, utility costs, and prepares it for sale. Contractors perform property maintenance functions, with HUD monitoring the work. Sales are conducted pursuant to a bidding process with functions ranging from advertising the property to execution of the deed upon a sale. HUD regulations governing single family property dispositions are set forth at 24 CFR part 291. Consistent with current practice, the Assistant Secretary for Housing will not delegate the authority under 24 CFR 291.210(c), Direct sales to individuals or entities.

I. Debarments and Limited Denials of Participation: A participant or contractor or affiliate, other than a mortgagee, who fails to comply with HUD program regulations, rules, and/or procedures, can be denied the right to participate in a HUD program or programs. Procedures governing the nature and scope of proceedings for the issuance of a debarment or limited denial of participation are set forth in 24 CFR part 24. Only certain officials may issue such limited denials of participation pursuant to the process in the regulations.

Note: Mortgagees are subject to an independent sanction process set forth in 24 CFR part 25.]

Section III. Single Family Housing Programs—Summary of Delegations

In order to efficiently administer the business of single family housing, the Assistant Secretary is delegating broad authority to managers within the Office of Single Family Housing in Headquarters and in the Field. This section provides a summary of the delegations. The authority actually being delegated is set forth under section IV.

A. Headquarters: The Deputy Assistant Secretary and Associate Deputy Assistant Secretary oversee the operations of the Office of Single Family Housing. Accordingly, each is being delegated the authority to conduct all business related to these programs. Headquarters directors, to the level of the Division Director, will be delegated authority commensurate with their respective subject matter jurisdictions. These directors typically assist the Deputy Assistant Secretary in developing the policies, guidance, and procedures pursuant to which single family programs are conducted. There are times, however, when Headquarters directors are required to review and decide upon a transaction. Some decisions warrant a Headquarters review and decision, notwithstanding that requests and transactions ordinarily originate and are decided in the Field. Headquarters may elect to review and decide upon cases that, for example, are of first impression, have national implications, require novel interpretations of guidance, or that have extraordinary monetary or other significance. The Assistant Secretary is re-delegating authority to Headquarters directors to allow them to function in these circumstances. The actual authority being delegated to the staff within each Office may be summarized as follows:

• The Director and Deputy Director of the Office of Single Family Housing Program Development will be delegated the authority to perform all of the functions listed in section II. A. (General), section II. B (Production), section II. F. (Grants), and section II. G. (Program Demonstrations). Office Division Directors will be delegated authority to perform the following functions:

The Director of the Home Mortgage Insurance Division will be authorized to perform functions under section II. A. (General) and section II. B. (Production).

The Director of the Program Support Division will be authorized to perform functions under section II. A. (General), section II. F. (Grants), and section II. G. (Program Demonstrations).

The Director and Deputy Director of the Office of Single Family Asset Management will be delegated the authority in section II. A. (General), section II. C. (Loan Servicing and Loss Mitigation), and section II. H. (Property Disposition).

The Director of the Single Family Servicing and Loss Mitigation Division will be authorized to perform functions under section II. A. (General), and section II. C. (Loan Management and Loss Mitigation).

• The Director and Deputy Director of the Office of Lender Activities and Program Compliance will be delegated authority to perform the functions identified under section II. A. (General), and section II. D. (Quality Assurance) and section II. E. (Lender Approval and Recertification). Among other things, they may also issue credit watch letters, and conduct informal hearings under 24 CFR part 202, Approval of Lending Institutions and Mortgagees. The Director serves as a non-voting member to the MRB.

The Division Directors for Lender Approval and Re-certification, and Quality Assurance shall be delegated the authority in section II. A. (General).

B. Single Family Field Offices: As a rule, requests that come to the Department are considered and decided by Housing officials at the Field Office level. Managers who work at or near the location of a proposal are often best suited to assess the needs of the local community and, within that context, the merits of a transaction. To enhance efficiency, the Office of Housing has centralized decision-making for single-family programs in its four Home Ownership Centers. Additional staff located in some 80 HUD offices throughout the country makes recommendations to and carries out functions on behalf of management in the HOCs. Accordingly, HOC managers require broad delegations of authority.

Each of the four HOC Directors and his or her Deputy Director will be delegated all of the authority in section II, other than section II. C. (Loan Servicing and Loss Mitigation), and section II.I., (Debarment responsibilities). Headquarters staff only carries out loan servicing and loss mitigation functions. The Assistant Secretary or General Deputy Assistant Secretary makes debarment determinations. However, pursuant to HUD's regulations at 24 CFR 200.204, the process for removing appraisers that violate HUD rules and procedures from the appraisal roster is, and will continue to be, carried out by staff in the HOCs. The Director of the Processing and Underwriting Division within each HOC issues to an appraiser the written notice of the proposed roster removal. If an appeal is filed by the appraiser, the HOC Director or Deputy Director handles the appeal (including an informal conference if one is requested) and makes the final determination of the matter.

HOC Division Directors, other than the Director of the Operations and Customer Service Division, will be delegated the authority in section II. A. (General), to authorize transactions, i.e., to sign required documents, in relation to their respective subject matter jurisdictions. However, Division Directors will not be delegated the authority to waive directives. The Director of the Operations and Customer Service Division provides internal, administrative support for the HOC. Since this Division does not make binding determinations in proceedings that involve and/or impact HUD's public customers and clients, there is no need to delegate section II authority to the Division Director.

In addition:

• The Director of the Processing and Underwriting Division will be delegated the authority to perform functions under sections II. B. (Production), and section II. G. (Program Demonstrations).

• The Director of the Quality Assurance Division will be delegated the authority to perform functions under section II. D. (Quality Assurance).

• The Director of the Program Support Division will be delegated authority to perform the functions under section II. F. (Grants), and section II. G. (Program Demonstrations).

• The Director of the Real Estate Owned Division will be delegated authority to perform functions under sections II. G. (Program Demonstrations), and section II. H. (Property Disposition).

Section IV. Single Family Programs—Authority Redelegated

The Assistant Secretary for Housing-Federal Housing Commissioner and the General Deputy Assistant Secretary for Housing-Deputy Federal Housing Commissioner retain and redelegate (1) to the Deputy Assistant Secretary for the Office of Single Family Housing and Associate Deputy Assistant Secretary and (2) through the Deputy Assistant Secretary and Associate Deputy Assistant Secretary, to the Headquarters Office Directors and Headquarters Deputy Office Directors listed below, and (3) through the Headquarters Office Directors and Deputy Office Directors, to the Headquarters and Field Office managers listed below, the power and authority described as follows:

A. Deputy Assistant Secretary and Associate Deputy Assistant Secretary, Office of Single Family Housing: Authority is redelegated, on a nationwide basis, to take all actions necessary to the conduct of all single-family housing programs, including, but not limited to, the exercise of the following functions:

(1) The general power to sign any documents necessary to perform enumerated functions, and to waive any directive that is not mandated by a statute or regulation;

(2) All production functions related to mortgage insurance, grant, or other programs;

(3) All loan servicing and loss mitigation functions, including the authority to act as a claims collection officer and to write off or compromise debt up to $100,000;

(4) All quality assurance functions;

(5) All functions necessary to administer grants and cooperative agreements awarded by the Assistant Secretary. However, noncompetitive contract awards proposed by assistance recipients subject to the administrative requirements for grants and cooperative agreements at 24 CFR part 85 may only be approved by the Assistant Secretary;

(6) All functions necessary to carry out a program conducted on a demonstration basis;

(7) All property disposition functions, other than authorizing direct sales under 24 CFR 291.210(c);

(8) Authority to conduct hearings concerning a lender or program participant's participation in HUD programs, and to issue (a) limited denials of participation, and (b) debarment notices, where a participant has elected not to contest the debarment decision of the Assistant Secretary.

B. Director and Deputy Director, Office of Single Family Program Housing Development: Authority is redelegated, on a nationwide basis, to take all actions necessary to the conduct of single-family housing programs, in relation to the following functions:

(1) The general power to sign any documents necessary to perform enumerated functions and to waive any directive that is not mandated by a statute or regulation;

(2) All production functions related to mortgage insurance, grant, or other programs;

(3) All functions necessary to carry out a cooperative agreement or competitive or non-competitive grant program, except for making grantee selections and approving recipient noncompetitive contracts; and,

(4) All functions necessary to carry out a program conducted on a demonstration basis.

C. Director, Home Mortgage Insurance Division, Office of Single Family Housing Program Development: Authority is redelegated, on a nationwide basis, to take all actions necessary to the conduct of single family housing programs, in relation to the following functions:

(1) The general power to sign any documents necessary to perform enumerated functions and to waive any directive that is not mandated by a statute or regulation; and,

(2) All production functions related to mortgage insurance, grant, or other programs.

D. Director, Program Support Division, Office of Single Family Housing Program Development: Authority is redelegated, on a nationwide basis, to take all actions and to perform all functions necessary to the conduct of the single family programs as follows:

(1) The general power to sign any documents necessary to perform enumerated functions and to waive any directive that is not mandated by statute or regulation;

(2) All functions necessary to carry out a cooperative agreement, competitive or non-competitive grant program except for making grantee selections and approving recipient noncompetitive contracts; and,

(3) All functions necessary to carry out a program conducted on a demonstration basis.

E. Director and Deputy Director, Office of Single Family Asset Management: Authority is re-delegated, on a nationwide basis, to take all actions necessary to the conduct of single family housing programs, in relation to the following functions:

(1) The general power to sign any documents necessary to perform enumerated functions and to waive any directive that is not mandated by statute or regulation;

(2) Loan servicing and loss mitigation functions, including the authority to act as a claims collection officer and to write off or compromise debt up to $100,000;

(3) All property disposition functions other than authorizing direct sales under 24 CFR 291.210(c); and,

(4) All functions necessary to carry out a program conducted on a demonstration basis.

F. Director, Single Family Servicing and Loss Mitigation Division, Office of Single Family Asset Management: Authority is redelegated, on a nationwide basis, to take all actions necessary to the conduct of single family housing programs in relation to the following functions:

(1) The general power to sign any documents necessary to perform enumerated functions and to waive any directive that is not mandated by statute or regulations; and,

(2) All loan servicing and loss mitigation functions, including the authority to act as a claims collection officer and to write off or compromise debt up to $100,000.

G. Director, Asset Management and Property Disposition Division, Office of Single Family Asset Management: Authority is redelegated, on a nationwide basis, to take all actions necessary to the conduct of single family housing programs in relation to the following functions:

(1) The general power to sign any documents necessary to perform enumerated functions and to waive any directive that is not mandated by statute or regulation;

(2) All property disposition functions other than authorizing direct sales under 24 CFR 291.210(c); and,

(3) All functions necessary to carry out a program conducted on a demonstration basis.

H. Director and Deputy Director, Office of Lender Activities and Program Compliance: Authority is redelegated, on a nationwide basis, to take all actions necessary to the conduct of single family programs in relation to the following functions:

(1) The general power to sign any documents necessary to perform enumerated functions and to waive any directive that is not mandated by statute or regulation;

(2) All quality assurance functions, including lender approval, re-certification, and program compliance functions;

(3) Authority to conduct hearings concerning a lender or program participants participation in HUD programs, and to issue (a) limited denials of participation; and,

(4) All functions necessary to carry out a program conducted on a demonstration basis.

I. Director, Lender Approval and Re-certification Division, Office of Lender Activities and Program Compliance: Authority is redelegated, on a nationwide basis, to take all actions necessary to the conduct of single family housing programs, in relation to the following functions:

(1) The general power to sign any documents necessary to perform enumerated functions and to waive any directive that is not mandated by statute or regulation; and,

(2) All functions related to approving and re-certifying FHA lenders;

J. Director, Quality Assurance Division, Office of Lender Activities and Program Compliance: Authority is redelegated, on a nationwide basis, to take all actions necessary to the conduct of single family programs, in relation to the following functions:

(1) The general power to sign any documents necessary to perform enumerated functions and to waive any directive that is not mandated by statute or regulation;

(2) Monitor lender performance and default and claim rates and to enter into indemnification agreements; and,

(3) All quality assurance functions related to program compliance by approved FHA lenders.

K. Homeownership Center—Director and Deputy Director: Authority is redelegated, within their respective jurisdictions, to take all actions necessary to the conduct of all single family housing programs including, but not limited to, the exercise of the following functions:

(1) The general power to sign any documents necessary to perform enumerated functions, and to waive any directive that is not mandated by a statute or regulation;

(2) All production functions related to mortgage insurance, grant, or other programs;

(3) Monitor lender performance and default and claim rates and to enter into indemnification agreements;

(4) All functions necessary to carry out a cooperative agreement, competitive or non-competitive grant program except for making grantee selections and approving recipient noncompetitive contracts;

(5) All functions necessary to carry out a program conducted on a demonstration basis;

(6) All property disposition functions other than authorizing direct sales under 24 CFR 291.210(c);

(7) Authority to issue limited denials of participation; and

(8) Authority pursuant to 24 CFR 200.204(a)(2)(iii) to administer the appeals process in connection with the removal of an appraiser from the appraiser roster and to issue a final decision concerning an appraiser's removal from the roster.

L. Homeownership Center—Processing and Underwriting Division Director: Authority is redelegated, within their respective jurisdictions, to take all actions necessary to the conduct of all single family housing programs including, but not limited to, the exercise of the following functions:

(1) The general power to sign any documents necessary to perform enumerated functions but not to issue waivers of directives;

(2) All production functions related to mortgage insurance, grant, or other programs;

(3) All functions necessary to carry out a program conducted on a demonstration basis; and

(4) Authority pursuant to 24 CFR 200.204(a)(2)(iii) to issue the written notice of proposed roster removal to an appraiser.

M. Homeownership Center—Quality Assurance Division Director: Authority is redelegated, within their respective jurisdictions, to take all actions necessary to the conduct of all single family housing programs including, but not limited to, the exercise of the following functions:

(1) The general power to sign any documents necessary to perform enumerated functions but not to issue waivers of directives; and,

(2) Monitor lender performance and default and claim rates and to enter into indemnification agreements.

N. Homeownership Center—Program Support Division Director: Authority is redelegated, within their respective jurisdictions, to take all actions necessary to the conduct of all single family housing programs including, but not limited to, the exercise of the following functions:

(1) The general power to sign any documents to perform enumerated functions but not to issues waivers of directives;

(2) All functions necessary to carry out a cooperative agreement, competitive or non-competitive grant program except for making grantee selections and approving recipient noncompetitive contracts; and,

(3) All functions necessary to carry out a program conducted on a demonstration basis.

O. Homeownership Center—Real Estate Owned Division Director: Authority is redelegated, within their respective jurisdictions, to take all actions necessary to the conduct of all single family housing programs including, but not limited to, the exercise of the following functions:

(1) The general power to sign any documents necessary to perform enumerated functions but not to issue waivers of directives;

(2) All property disposition functions other than authorizing direct sales under 24 CFR 291.210(c); and,

(3) All functions necessary to carry out a demonstration conducted on a demonstration basis.

Section V. Authority Excepted

The authority redelegated in section IV.A through O does not include authority to issue or waive regulations or to implement the authority contained in the Federal Housing Enterprises Financial Safety and Soundness Act of 1992, 12 U.S.C. 4501 et seq.

Section VI. Further Redelegations

The authority redelegated by the Assistant Secretary for Housing—Federal Housing Commissioner and the General Deputy Assistant Secretary-Deputy Federal Housing Commissioner may not be further redelegated by the officials identified in section IV. A through O.

Section VII. Revocation of Delegations

All prior redelegations issued by the Assistant Secretary for Housing to staff in the Office of Single Family Housing are hereby superseded and/or revoked. The Assistant Secretary for Housing—Federal Housing Commissioner or the General Deputy Assistant Secretary for Housing—Deputy Federal Housing Commissioner may, at any time, revoke any of the authority redelegated in this notice. Notice of any revocation will be published in the Federal Register.

Authority: Section 7(d), Department of Housing and Urban Development Act, 42 U.S.C. 3535(d).

Dated: August 11, 2003.
John C. Weicher,
Assistant Secretary for Housing-Federal Housing Commissioner.

[FR Doc. 03-21241 Filed 8-19-03; 8:45 am]

BILLING CODE 4210-27-P